DEPARTMENT OF STATE

[Public Notice: 10435]

Notice of Public Meeting of the International Telecommunication Advisory Committee and Preparations for Upcoming International Telecommunications Meetings

This notice announces a meeting of the Department of State's International Telecommunication Advisory Committee (ITAC). The ITAC will meet on June 26, 2018, at AT&T, 1120, 20th Street NW, Washington DC at 2:00 p.m. to review the results of recent multilateral meetings, update on preparations for the International Telecommunication Union (ITU) 2018 Plenipotentiary Conference (PP-18), and discuss preparations for other upcoming multilateral meetings at the ITU. The meeting will focus on the following topics:

1. ITU Council

2. CITEL PCC.I meeting

3. Preparations for the ITU 2018 Plenipotentiary Conference (PP-18)

4. ITU Radiocommunication Sector (ITU-R) meetings

5. ITU Telecommunication Standardization Sector (ITU-T) meetings

6. ITU Development Sector meetings

7. Regional PP-18 Preparatory Groups

8. APEC Telecommunications Working Group 57 (TEL 57)

9. Organization for Economic Corporation and Development (OECD) Committee on Digital Economy Policy (CDEP)

PP-18 will take place in Dubai, United Arab Emirates, from October 29 to November 17, 2018. The Plenipotentiary Conference, which takes place every four years, is the highest policy-making body of the ITU. PP-18 is expected to determine the overall policy direction of the ITU; adopt the strategic and financial plans for the next four years; elect the 48 members of Council, 12 members of the Radio Regulations Board, and five senior ITU elected officials; and consider and adopt, if appropriate, amendments to the ITU Constitution and Convention.

Attendance at the ITAC meeting is open to the public as seating capacity allows. The public will have an opportunity to provide comments at this meeting at the invitation of the chair. Persons wishing to request reasonable accommodation during the meeting should send their requests to ITAC@state.gov no later than June 21, 2018. Requests made after that time will be considered, but might not be able to be accommodated.

Further details on this ITAC meeting will be announced through the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any.

Please send all inquiries to ITAC@state.gov.

Franz J. Zichy,
Designated Federal Officer, Multilateral Affairs, International Communications and Information Policy, Department of State.

[FR Doc. 2018-11811 Filed 5-31-18; 8:45 am]

BILLING CODE 4710-AE-P